FEDERAL COMMUNICATIONS COMMISSION

47 CFR Part 73

[DA 01-2081, MM Docket No.01-127, RM-10132]

Digital Television Broadcast Service; Pittsburg, KS

AGENCY: Federal Communications Commission.

ACTION: Final rule.

SUMMARY: The Commission, at the request of Saga Quad States Communications, Inc., licensee of station KOAM-TV, substitutes DTV channel 13 for DTV channel 30 at Pittsburg, Kansas. See 66 FR 34400, June 28, 2001. DTV channel 13 can be allotted to Pittsburg in compliance with the principle community coverage requirements of Section 73.625(a) at reference coordinates 37-13-15 N. and 94-42-23 W. with a power of 4.2, HAAT of 336 meters and with a DTV service population of 357 thousand.

With is action, this proceeding is terminated.

DATES: Effective October 22, 2001.

FOR FURTHER INFORMATION CONTACT: Pam Blumenthal, Mass Media Bureau, (202) 418-1600.

SUPPLEMENTARY INFORMATION: This is a synopsis of the Commission's Report and Order, MM Docket No. 01-127, adopted September 5, 2001, and released September 7, 2001. The full text of this document is available for public inspection and copying during regular business hours in the FCC Reference Information Center, Portals II, 445 12th Street, SW., Room CY-A257, Washington, DC, 20554. This document may also be purchased from the Commission's duplicating contractor, Qualex International, Portals II, 445 12th Street, SW., Room CY-B402, Washington, DC, 20554, telephone 202-863-2893, facsimile 202-863-2898, or via-e-mail qualexint@aol.com.

List of Subjects in 47 CFR Part 73

Television, Digital television broadcasting.

Part 73 of Title 47 of the Code of Federal Regulations is amended as follows:

PART 73—[AMENDED]

1. The authority citation for Part 73 continues to read as follows:

Authority: 47 U.S.C. 154, 303, 334, and 336.

§ 73.622 [Amended]

2. Section 73.622(b), the Table of Digital Television Allotments under Kansas, is amended by removing DTV channel 30 and adding DTV channel 13 at Pittsburg.

Federal Communications Commission.
Barbara A. Kreisman,
Chief, Video Services Division, Mass Media Bureau.

[FR Doc. 01-23058 Filed 9-13-01; 8:45 am]

BILLING CODE 6712-01-P